UNIFIED CARRIER REGISTRATION PLAN

Sunshine Act Meetings

TIME AND DATE: March 5, 2025, 1:00 p.m. to 4:00 p.m., Central Standard time.

PLACE: This meeting will take place at the Dallas Marriott Downtown, 650 North Pearl Street, Dallas, Texas, USA 75201. The meeting will also be accessible via conference call and via Zoom Meeting and Screenshare. Any interested person may call (i) 1-929-205-6099 (US Toll) or 1-669-900-6833 (US Toll), Meeting ID: 910 5539 6711, to listen and participate in this meeting. The website to participate via Zoom Meeting and Screenshare is https://kellen.zoom.us/meeting/register/tJUtcuyrpz0tG9XR7mUFRNiPnUc6xu0tQrYt.

STATUS: This meeting will be open to the public.

MATTERS TO BE CONSIDERED: The Unified Carrier Registration Plan Enforcement Subcommittee (the “Subcommittee”) will continue its work in developing and implementing the Unified Carrier Registration Plan and Agreement. The subject matter of this meeting will include:

Proposed Agenda

I. Call to Order—UCR Enforcement Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Enforcement Subcommittee Chair

For Discussion and Possible Subcommittee Action

The Subcommittee Agenda will be reviewed, and the Subcommittee will consider adoption.

Ground Rules

➢ Subcommittee action only to be taken in designated areas on agenda.

IV. Review and Approval of Subcommittee Minutes from the August 13, 2024, Meeting—UCR Enforcement Subcommittee Chair

For Discussion and Possible Subcommittee Action

Draft minutes from the August 13, 2024, Subcommittee meeting will be 200E;reviewed. The Subcommittee will consider action to approve.

V. Review of 2024 Enforcement Rates—UCR Enforcement Subcommittee Chair, UCR Enforcement Subcommittee Vice-Chair

The Subcommittee will review a variety of tools and activities undertaken in 2024 to conduct enforcement activities in the states.

VI. 2025 UCR Awareness Initiatives—UCR Enforcement Subcommittee Chair, UCR Enforcement Subcommittee Vice-Chair

The Subcommittee Chair will lead a discussion of an overview of the January 2025 UCR Awareness Initiative and the upcoming June 15-18, 2025, Awareness Initiative.

VII. Discussion on Creation of Enforcement Card for Enforcement Officers—UCR Enforcement Subcommittee Member Willie Smith

The Subcommittee Member will lead a discussion on the creation of an enforcement card to be utilized for enforcement officers.

VIII. Discussion on Creation of Violation Referral Program—UCR Enforcement Subcommittee Vice-Chair

The Subcommittee Vice-Chair will lead a discussion on the creation of a UCR Violation Referral Program as part of UCR Enforcement.

IX. Discussion and update on UCR Enforcement Training Materials—UCR Enforcement Subcommittee Chair, UCR Enforcement Subcommittee Vice-Chair

The Subcommittee Chair will lead a discussion on the updates to the UCR Enforcement Training Materials.

X. Review of Roadside Enforcement for Carriers Who are Under-Registered—UCR Enforcement Subcommittee Chair, UCR Enforcement Subcommittee Vice-Chair

The Subcommittee Chair will lead a discussion on the continued efforts to issue violations to under-registered carriers.

XI. Inspector Award for Annual UCR Enforcement—UCR Enforcement Subcommittee Chair, UCR Enforcement Subcommittee Vice-Chair

The Subcommittee Chair will present the top inspector award. The Subcommittee Vice-Chair will give a presentation on the inspector's enforcement efforts in 2024.

XII. Other Business—UCR Enforcement Subcommittee Chair

The Subcommittee Chair will call for any other items Subcommittee members would like to discuss.

XIII. Adjournment—UCR Enforcement Subcommittee Chair

The Subcommittee Chair will adjourn the meeting.

The agenda will be available no later than 5:00 p.m. Eastern time, February 25, 2025 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-03382 Filed 2-26-25; 4:15 pm]

BILLING CODE 4910-YL-P